DEPARTMENT OF COMMERCE

National Oceanic and Atmospheric Administration

50 CFR Part 648

[Docket No. 040112010-4114-02; I.D. 061004C]

Magnuson-Stevens Fishery Conservation and Management Act Provisions; Fisheries of the Northeastern United States; Northeast (NE) Multispecies Fishery; Georges Bank (GB) Cod Hook Sector (Sector) Operations Plan

AGENCY: National Marine Fisheries Service (NMFS), National Oceanic and Atmospheric Administration (NOAA), Commerce.

ACTION: Notification of Approval of Sector Operations Plan and Allocation of GB Cod Total Allowable Catch (TAC).

SUMMARY: NMFS announces approval of an Operations Plan and Sector Contract titled “Georges Bank Cod Hook Sector Operations Plan and Agreement” (Sector Agreement), and the associated allocation of GB cod, consistent with regulations implementing Amendment 13 to the NE Multispecies Fishery Management Plan (FMP). The intent is to allow regulated harvest of groundfish by the Sector, consistent with the objectives of the FMP.

FOR FURTHER INFORMATION CONTACT: Thomas Warren, Fishery Policy Analyst, (978) 281-9347, fax (978) 281-9135, e-mail Thomas.Warren@NOAA.gov.

SUPPLEMENTARY INFORMATION: The final rule implementing Amendment 13 to the FMP authorized the allocation of up to 20 percent of the annual GB cod TAC to the GB Cod Hook Sector. NMFS provided interested parties an opportunity to comment on the proposed Sector Agreement through notification published in the Federal Register on June 21, 2004 (69 FR 34335); additional background and details of the Sector Agreement are contained in that notification and are not repeated here. One comment was received, which urged conservative fishery management, but which was not specifically directed to the proposed Sector Agreement.

After consideration of the proposed Sector Agreement and the comment received, NMFS has concluded that the Sector Agreement, which contains the Sector Contract and Operations Plan, is consistent with the goals of the FMP and other applicable law and is in compliance with the regulations governing the development and operation of a sector as specified under 50 CFR 648.87.

There are 58 members of the approved Sector. As specified in Amendment 13, the Sector's allocation of GB cod has been determined by dividing the sum of the total landings of GB cod by the Sector members for the fishing years 1996 through 2001 (when fishing with jigs, demersal longline, or handgear), by the sum of the total accumulated landings of GB cod harvested by all NE multispecies vessels for the same time period. Based on the landings history of the 58 Sector members, the approved Sector TAC of GB cod is 371 mt, which is 12.587 percent of the total GB cod TAC. Letters of Authorization will be issued to each member of the Sector exempting them, conditional upon their compliance with the Sector Agreement, from the GB cod possession restrictions and the requirements of the Gulf of Maine trip limit exemption program, limits on the number of hooks, and the GB Seasonal Closure Area, as specified in §§ 648.86(b), 648.80(a)(4)(v), and 648.81(g), respectively.

Classification

This action is required by 50 CFR part 648 and is exempt from review under Executive Order 12866.

Authority: 16 U.S.C. 1801 et seq.

Dated: July 15, 2004.
Alan D. Risenhoover,
Acting Director, Office of Sustainable Fisheries, National Marine Fisheries Service.

[FR Doc. 04-16586 Filed 7-20-04; 8:45 am]

BILLING CODE 3510-22-S